DEPARTMENT OF THE INTERIOR

Bureau of Indian Affairs

[189A2100DD/AAKC001030/A0A501010.999900253G]

Indian Gaming; Approval of Tribal-State Class III Gaming Compact Amendments in the State of Oklahoma

AGENCY: Bureau of Indian Affairs, Interior.

ACTION: Notice.

SUMMARY: The State of Oklahoma entered into compact amendments with the Absentee Shawnee Tribe, Cherokee Nation, Chickasaw Nation, Citizen Potawatomi Nation, Eastern Shawnee Tribe of Oklahoma, Iowa Tribe of Oklahoma, Kaw Nation, Muscogee (Creek) Nation, Seneca-Cayuga Nation, Wichita and Affiliated Tribes, and Wyandotte Nation of Oklahoma governing certain forms of class III gaming; this notice announces the approval of the State of Oklahoma Gaming Compact Non-house-Banked Table Games Supplement between the State of Oklahoma and the Absentee Shawnee Tribe, Cherokee Nation, Citizen Potawatomi Nation, Eastern Shawnee Tribe of Oklahoma, Iowa Tribe of Oklahoma, Kaw Nation, Muscogee (Creek) Nation, Seneca-Cayuga Nation, Wichita and Affiliated Tribes, and Wyandotte Nation.

DATES: The compact amendments take effect on August 17, 2018.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in Class III gaming activities on Indian lands. As required by IGRA and 25 CFR 293.4, all compacts and amendments are subject to review and approval by the Secretary. The compact amendments authorize the Tribes to engage in certain additional class III gaming activities, provide for the application of existing revenue sharing agreements to the additional forms of class III gaming, and designate how the State will distribute revenue sharing funds.

Dated: August 9, 2018.
Tara Sweeney,
Assistant Secretary—Indian Affairs.

[FR Doc. 2018-17729 Filed 8-16-18; 8:45 am]

BILLING CODE 4337-15-P